DEPARTMENT OF HEALTH AND HUMAN SERVICES

Health Resources and Services Administration

Ryan White HIV/AIDS Program, Part C Early Intervention Services Grant Under the Ryan White HIV/AIDS Program

AGENCY: Health Resources and Services Administration (HRSA), Department of Health and Human Services.

ACTION: Notice of One-Time Noncompetitive Award of Part C Funds for the District Four Health Services (DFHS), Lagrange, Georgia.

SUMMARY: To prevent a lapse in comprehensive primary care services for persons living with HIV/AIDS, HRSA will be providing a one-time noncompetitive Part C funds award to DFHS, Lagrange, Georgia.

SUPPLEMENTARY INFORMATION: The amount of the award is $104,218 to ensure ongoing clinical services to this rural population.

Authority: Section 2651 of the Public Health Service Act, 42 U.S.C. 300ff-51.

CFDA Number: 93.918.

Project period: The period of support for this award is from April 1, 2013, to June 30, 2013.

Justification for the Exception to Competition: Since 2000, DFHS has provided critical Ryan White HIV/AIDS Program (Part C) Early Intervention Services for over 427 persons living with HIV/AIDS in the twelve county public health service areas. DFHS will continue to provide critical HIV medical care and treatment services during the three-month extension from April 1, 2013, until June 30, 2013, until the start of the July 1 funding cycle. This service area will be included in the upcoming competition for the Part C HIV Early Intervention Services Grant under the funding opportunity announcement HRSA-13-168.

FOR FURTHER INFORMATION CONTACT: John Fanning; by email at jfanning@hrsa.gov or by phone at 301-443-0493.

Dated: February 6, 2013.
Mary K. Wakefield,
Administrator.

[FR Doc. 2013-03293 Filed 2-12-13; 8:45 am]

BILLING CODE 4165-15-P